FEDERAL RESERVE SYSTEM

Formations of, Acquisitions by, and Mergers of Bank Holding Companies; Correction

This notice corrects a notice (FR Doc. 02-13180) published on page 36882 of the issue for May 28, 2002.

On page 36883, in the first column, under the Federal Reserve Bank of Minneapolis heading, the entry for State Bank of Hawley Employee Stock Ownership Plan & Trust, Hawley, Minnesota, is revised to read as follows:

A.Federal Reserve Bank of Minneapolis (Julie Stackhouse, Vice President) 90 Hennepin Avenue, Minneapolis, Minnesota 55480-0291:

1. State Bank of Hawley Employee Stock Ownership Plan & Trust, Hawley, Minnesota; to acquire an additional 6 percent, for a total of 38.8 percent of the voting shares of Bankshares of Hawley, Inc., Hawley, Minnesota, and thereby indirectly acquire State Bank of Hawley, Hawley, Minnesota.

Comments on this application must be received by June 21, 2002.

Board of Governors of the Federal Reserve System, June 5, 2002.
Robert deV. Frierson,
Deputy Secretary of the Board.

[FR Doc. 02-14577 Filed 6-10-02; 8:45 am]

BILLING CODE 6210-01-S